DEPARTMENT OF COMMERCE

Census Bureau

[Docket Number: 240130-0030]

X-RIN 0607-XC074

Estimates of the Voting-Age Population for 2023

AGENCY: Census Bureau, Commerce.

ACTION: General notice announcing population estimates.

SUMMARY: This notice announces the voting-age population estimates as of July 1, 2023 for each state and the District of Columbia. We are providing this notice in accordance with the 1976 amendment to the Federal Election Campaign Act.

FOR FURTHER INFORMATION CONTACT: Karen Battle, Chief, Population Division, U.S. Census Bureau, 4600 Silver Hill Road, Washington, DC 20233. Phone: 301-763-2071. Email: Karen.Battle@census.gov.

SUPPLEMENTARY INFORMATION: Under the requirements of the 1976 amendment to the Federal Election Campaign Act, Title 52, United States Code, Section 30116(e), I hereby give notice that the estimates of the voting-age population for July 1, 2023 for each state and the District of Columbia are as shown in the following table.

Estimates of the Population of Voting Age for Each State and the District of Columbia: July 1, 2023
Area | Population 18 and over | Area | Population 18 and over
United States | 262,083,034 |  |
Alabama | 3,977,628 | Missouri | 4,821,686
Alaska | 557,899 | Montana | 897,161
Arizona | 5,848,310 | Nebraska | 1,497,381
Arkansas | 2,362,124 | Nevada | 2,508,220
California | 30,519,524 | New Hampshire | 1,150,004
Colorado | 4,662,926 | New Jersey | 7,280,551
Connecticut | 2,894,190 | New Mexico | 1,663,024
Delaware | 819,952 | New York | 15,611,308
District of Columbia | 552,380 | North Carolina | 8,498,868
Florida | 18,229,883 | North Dakota | 599,192
Georgia | 8,490,546 | Ohio | 9,207,681
Hawaii | 1,141,525 | Oklahoma | 3,087,217
Idaho | 1,497,384 | Oregon | 3,401,528
Illinois | 9,844,167 | Pennsylvania | 10,332,678
Indiana | 5,274,945 | Rhode Island | 892,124
Iowa | 2,476,882 | South Carolina | 4,229,354
Kansas | 2,246,209 | South Dakota | 697,420
Kentucky | 3,509,259 | Tennessee | 5,555,761
Louisiana | 3,506,600 | Texas | 22,942,176
Maine | 1,146,670 | Utah | 2,484,582
Maryland | 4,818,337 | Vermont | 532,828
Massachusetts | 5,659,598 | Virginia | 6,834,154
Michigan | 7,925,350 | Washington | 6,164,810
Minnesota | 4,436,981 | West Virginia | 1,417,859
Mississippi | 2,259,864 | Wisconsin | 4,661,826
|  | Wyoming | 454,508
Source: U.S. Census Bureau, Population Division, Vintage 2023 Population Estimates.

Gina Raimondo, Secretary, Department of Commerce, certified these estimates for the Federal Election Commission.

Robert L. Santos, Director, Census Bureau, approved the publication of this Notice in the Federal Register.

Dated: March 8, 2024.
Shannon Wink,
Program Analyst, Policy Coordination Office, U.S. Census Bureau.

[FR Doc. 2024-06666 Filed 3-28-24; 8:45 am]

BILLING CODE 3510-07-P